FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 19, 2000

A. Federal Reserve Bank of Kansas City (D. Michael Manies, Assistant Vice President), 925 Grand Avenue, Kansas City, Missouri 64198-0001:

1. Dickinson Family Stock Retention Trust, Kansas City, Missouri; Amy Dickinson Holewinski, Mission Hills, Kansas and Daniel L. Dickinson, Kansas City, Missouri, as Trustees, to acquire additional voting shares of DFC Acquisition Corporation Two, Kansas City, Missouri, and Dickinson Financial Corporation, Kansas City, Missouri, and thereby indirectly acquire voting shares of Armed Forces Bank of California, San Diego, California; Air Academy National Bank, Colorado Springs, Colorado; Armed Forces Bank, N.A., Fort Leavenworth, Kansas; and Bank Midwest, N.A., Kansas City, Missouri.

Board of Governors of the Federal Reserve System, March 30, 2000.
Robert deV. Frierson,
Associate Secretary of the Board.

[FR Doc. 00-8278 Filed 4-3-00; 8:45 am]

BILLING CODE 6210-01-P